Proclamation 8739 of October 14, 2011

Blind Americans Equality Day, 2011

By the President of the United States of America

A Proclamation

Generations of blind and visually impaired Americans have dedicated their passion and skills to enhancing our national life—leading as public servants, penning works of literature, lending their voice to music, and inspiring as champions of sport. On Blind Americans Equality Day, we celebrate the achievements of blind and visually impaired Americans and reaffirm our commitment to advancing their complete social and economic integration.

My Administration is dedicated to ensuring Americans with disabilities have every opportunity to reach their full potential. Last year, I signed the Twenty-First Century Communications and Video Accessibility Act to set new standards that enable people living with disabilities to access broadband, digital, and mobile innovations. To help level the playing field for employment, we are working to improve the Federal Government’s compliance with Section 508 of the Rehabilitation Act. Making electronic and information technology 508 compliant will give applicants with disabilities a fair chance and allow employees with disabilities to use necessary tools while on the job. By taking these steps, my Administration reaffirms its pledge to openness by making sure that people with disabilities can better access all the information the Federal Government has placed online.

This year also marks the 75th anniversary of the passage of the Randolph-Sheppard Act. For decades, the legislation has provided openings for blind Americans to work as vendors on Federal property, creating meaningful entrepreneurial opportunities and enabling them to contribute to our economy. These jobs have enriched the lives of those participating in the Randolph-Sheppard program and enhanced public understanding of blindness for those who have interacted with the program’s vendors.

Though we have made progress in the march to equality for the blind and those with low vision, there is still more work to be done. In addition to improving access to technology and employment opportunities, this January, I signed the Pedestrian Safety Enhancement Act. This landmark legislation requires electric and hybrid car manufacturers to add sounds to alert all pedestrians to the presence of these unusually quiet vehicles. These provisions will help increase the safety and independence of blind and visually impaired Americans.

By joint resolution approved on October 6, 1964 (Public Law 88-628, as amended), the Congress designated October 15 of each year as “White Cane Safety Day” to recognize the contributions of Americans who are blind or have low vision. Today, let us recommit to forging ahead with the work of perfecting our Union and ensuring we remain a Nation where all our people, including those living with disabilities, have every opportunity to achieve their dreams.

NOW, THEREFORE, I, BARACK OBAMA, President of the United States of America, do hereby proclaim October 15, 2011, as Blind Americans Equality Day. I call upon public officials, business and community leaders, educators, librarians, and Americans across the country to observe this day with appropriate ceremonies, activities, and programs.

IN WITNESS WHEREOF, I have hereunto set my hand this fourteenth day of October, in the year of our Lord two thousand eleven, and of the Independence of the United States of America the two hundred and thirty-sixth.

[FR Doc. 2011-27320

Filed 10-19-11; 8:45 am]

Billing code 3295-F2-P